DEPARTMENT OF AGRICULTURE

Forest Service

RIN 0596-AB89

Grazing Permit Administration Handbook (FSH 2209.13), Chapters 10 (Term Grazing Permits) and 20 (Grazing Agreements)

AGENCY: Forest Service, USDA.

ACTION: Notice of interim directives, request for comment.

SUMMARY: The Forest Service has issued two (2) interim directives (IDs) to Forest Service Handbook 2209.13 establishing procedures and responsibilities for administering term grazing permits and grazing agreements (a specific type of term grazing permit). The intended effect of issuance of these IDs is to provide consistent overall guidance to Forest Service employees regarding term grazing permits and grazing agreements. The IDs add new provisions for administering term grazing permits and establish a consistent process regarding issuance of grazing agreements. The regulations at 36 CFR part 222 are not being changed. Public comment is invited and will be considered in development of the final direction.

DATES: Interim Directive no. 2209.13-2005-1 (Chapter 10) and Interim Directive no. 2209.13-2005-2 (Chapter 20) are effective July 19, 2005. Comments must be received in writing by October 17, 2005.

ADDRESSES: Send written comments by mail to USDA Forest Service, Attn: Director, Rangeland Management Staff, Mail Stop 1153, 1400 Independence Ave., SW., Washington, DC 20250-1153; by electronic mail to RgeID@fs.fed.us; or by facsimile to (202) 205-1096. If comments are sent by electronic means or by facsimile, the public is requested not to send duplicate comments via regular mail.

All comments, including names and addresses when provided, are placed in the record and are available for public inspection and copying. The agency cannot confirm receipt of comments.

The public may inspect comments received on these interim directives in the Rangeland Management Staff, 3rd Floor, South Wing, Yates Building, 14th and Independence Avenues, Northwest, Washington, DC, between the hours of 8:30 a.m. and 4 p.m. Those wishing to inspect comments are encouraged to call ahead to (202) 205-1460 to facilitate entry into the building.

FOR FURTHER INFORMATION CONTACT: Richard Lindenmuth, Rangeland Management Staff, USDA Forest Service, (202) 205-1458.

SUPPLEMENTARY INFORMATION: The Forest Service directives consist of the Forest Service Manual (FSM) and the Forest Service Handbook (FSH), which contain the agency's policies, practices, and procedures and serves as the primary basis for the internal management and control of programs and administrative direction to Forest Service employees. The directives for all agency programs are set out on the World Wide Web/Internet at http://www.fs.fed.us/im/directives.

The FSM contains legal authorities, objectives, policies, responsibilities, instructions, and guidance needed on a continuing basis by Forest Service line officers and primary staff to plan and executive programs and activities. The FSH is the principal source of specialized guidance and instruction for carrying out the policies, objectives, and responsibilities contained in the FSM.

The last major update to FSH 2209.13 was 1985. New legislation, litigation, and changing needs on-the-ground indicate the need to update and clarify existing policy. Six out of 7 chapters of FSM 2200 and all nine chapters of FSH 2209.13 are updated. Chapter 10, Term Grazing Permits, and Chapter 20, Grazing Agreements, contain most of the new direction. The Forest Service has determined neither of these chapters requires public notice and comment. However, due to the high degree of interest, they are being published as interim directives (ID) and made available for comment.

These IDs, along with other amended chapters, clarify and update existing policy. All clarifications and changes to existing policy are within the authority already delegated to the Chief of the Forest Service at 36 CFR part 222. Therefore, no changes, deletions, or additions are deemed necessary by the Forest Service to the regulations at 36 CFR part 222.

Highlights of Interim Directives; Forest Service Handbook; FSH 2209.13—Grazing Permit Administration Handbook

Chapter 10—Term Grazing Permits

This chapter describes the procedures to properly issue, modify, suspend, and cancel term grazing permits. A term grazing permit is obtained through prior permitted use (existing permit expires), sale of base property or permitted livestock, or grant authority. Section 16.3 adds a new provision explaining the contents of a notice of non-compliance letter and when it should be issued, and it adds a new provision establishing uniform suspension and cancellation guidelines. Section 17.2 expands the maximum period of nonuse for personal convenience from 3 to 4 years.

Chapter 20—Grazing Agreements

Grazing agreements are a specific type of term grazing permit used on the national grasslands and national forests. This chapter provides direction on administering grazing agreements. Section 21.1 establishes a consistent process to waive Forest Service term grazing permits in favor of a grazing association-issued term grazing permit. Section 21.2 establishes a consistent process to waive a grazing association-issued term grazing permit in favor of a Forest Service term grazing permit. Section 22 establishes standard forms for grazing agreements on both national grasslands and national forests. Section 24.11 establishes a consistent 7-year limit policy for leasing of property to satisfy base property ownership qualification requirements for association-issued term grazing permits on national grasslands. Section 24.12 establishes a consistent 3-year limit policy for share livestock agreements to satisfy livestock ownership qualification requirements for association-issued term grazing permits on national grasslands.

Regulatory Certifications

Regulatory Impact

This notice has been reviewed under USDA procedures and Executive Order (E.O.) 12866, Regulatory Planning and Review. The Office of Management and Budget (OMB) has determined that it is substantive, nonsignificant. The ID's would not have an annual effect of $100 million or more on the economy nor adversely affect productivity, competition, jobs, the environment, public health or safety, nor State or local governments. The ID's would not interfere with an action taken or planned by another agency nor raise new legal or policy issues. Finally, the ID's would not alter the budgetary impact of entitlements, grants, user fees, or loan programs or the rights and obligations of recipients of such programs.

Moreover, the ID's have been considered in light of Executive Order 13272 regarding proper consideration of small entities and the Small Business Regulatory Enforcement Fairness Act of 1996 (SBREFA), which amended the Regulatory Flexibility Act (5 U.S.C. 601 et seq.). No direct or indirect financial impact on small businesses or other entities has been identified. Therefore, it is hereby certified that these ID's will not have a significant economic impact on a substantial number of small entities as defined by the act.

Environmental Impact

These ID's provide detailed direction to agency employees necessary to administer term grazing permits and grazing agreements. Section 31.12 of Forest Service Handbook 1909.15 (57 FR 43208; September 18, 1992) excludes from documentation in an environmental assessment or impact statement “rules, regulations, or policies to establish Service-wide administrative procedures, program processes, or instructions.” The agency's conclusion is that these ID's fall within this category of actions and that no extraordinary circumstances exist as currently defined that require preparation of an environmental assessment or an environmental impact statement.

No Takings Implications

These ID's have been analyzed in accordance with the principles and criteria contained in Executive Order 12360, Governmental Actions and Interference with Constitutionally Protected Property Rights, and it has been determined that they would not pose the risk of a taking of private property as they are limited to the establishment of administrative procedures.

Energy Effects

These ID's have been analyzed under Executive Order 13211, Actions Concerning Regulations That Significantly Affect Energy Supply, Distribution, or Use. It has been determined that they do not constitute a significant energy action as defined in the Executive order.

Civil Justice Reform

These ID's have been reviewed under Executive Order 12988, Civil Justice Reform. These ID's will direct the work of Forest Service employees and are not intended to preempt any State and local laws and regulations that might be in conflict or that would impede full implementation of these directives. The directives would not retroactively affect existing permits, contracts, or other instruments authorizing the occupancy and use of National Forest System lands and would not require the institution of administrative proceedings before parties may file suit in court challenging their provisions.

Unfunded Mandates

Pursuant to Title II of the Unfunded Mandates Reform Act of 1995 (2 U.S.C. 1531-1538), which the President signed into law on March 22, 1995, the effects of these ID's on State, local, and tribal governments, and on the private sector have been assessed and do not compel the expenditure of $100 million or more by any State, local, or Tribal government, or anyone in the private sector. Therefore, a statement under section 202 of the act is not required.

Federalism

The agency has considered these ID's under the requirements of Executive Order 13132, Federalism. The agency has made a preliminary assessment that the ID's conform with the federalism principles set out in this Executive order; would not impose any significant compliance costs on the States; and would not have substantial direct effects on the States, on the relationship between the national government and the States, or on the distribution of power and responsibilities among the various levels of government. Moreover, these ID's address term grazing permits and grazing agreements on national forests and grasslands, which do not directly affect the States. Based on comments received on these ID's, the agency will consider if any additional consultation will be needed with State and local governments prior to adopting final directives.

Consultation and Coordination With Indian Tribal Governments

These ID's do not have tribal implications as defined by Executive Order 13175, Consultation and Coordination with Indian Tribal Governments, and therefore, advance consultation with Tribes is not required.

Controlling Paperwork Burdens on the Public

These ID's do not contain any record keeping or reporting requirements or other information collection requirements as defined in 5 CFR part 1320 and, therefore, impose no paperwork burden on the public. Accordingly, the review provisions of the Paperwork Reduction Act of 1995 (44 U.S.C. 3501 et seq.) and implementing regulations at 5 CFR part 1320 do not apply.

Conclusion

Six out of 7 chapters of FSM 2200 and all 9 chapters of FSH 2209.13 are updated. Chapter 10, Term Grazing Permits, and Chapter 20, Grazing Agreements, contain most of the new direction. The agency has elected to issue chapters 10 and 20 as interim directives, making them effective immediately. An interim directive expires 18 months from issuance and may be reissued only once for a total duration of 36 months. Thereafter, the direction must be incorporated into an amendment or allowed to expire. Both the regular amendments and the interim directives are being published simultaneously in order for reviewers to synthesize the context of each amended directive in relation to the total package.

The Forest Service is committed to providing adequate opportunities for the public to comment on administrative directives that are of substantial public interest or controversy, as provided in the regulations at 36 CFR part 216. Because it is important to provide Forest Service units with updated guidance and direction in a comprehensive integrated package, the agency is issuing these ID's and making them effective immediately. However, pursuant to 36 CFR 216.7, the Forest Service is also requesting public comment on these ID's.

All comments will be considered in the development of final directives. The full text of these Manuals and Handbook references area available on the World Wide Web at http://www.fs.fed.us/im/directives.

Single paper copies are available upon request from the address and phone numbers listed in the ADDRESSES section of this notice, as well as, from the nearest Regional Office, the location of which are also available on the Washington Office headquarters home page on the World Wide Web at http://www.fs.fed.us.

Dated: June 30, 2005.
Sally Collins,
Associate Chief of the Forest Service.

[FR Doc. 05-14147 Filed 7-18-05; 8:45 am]

BILLING CODE 3410-11-P